SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: February 1-28, 2019.

ADDRESSES: Susquehanna River Basin Commission, 4423 North Front Street, Harrisburg, PA 17110-1788.

FOR FURTHER INFORMATION CONTACT: Jason E. Oyler, General Counsel and Secretary, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and 806.22 (f) for the time period specified above:

Approvals By Rule Issued Under 18 CFR 806.22(f):

1. Seneca Resources Company, LLC; Pad ID: Rich Valley Pad G, ABR-201402001.R1; Shippen Township, Cameron County, Pa.; Consumptive Use of Up to 4.0000 mgd; Approval Date: February 4, 2019.

2. Seneca Resources Company, LLC; Pad ID: Rich Valley Pad F, ABR-201402002.R1; Shippen Township, Cameron County, Pa.; Consumptive Use of Up to 4.0000 mgd; Approval Date: February 4, 2019.

3. Repsol Oil & Gas USA, LLC; Pad ID: KROPIEWNICKI (07 038) J, ABR-201902004.R1; Apolacon Township, Susquehanna County, Pa.; Consumptive Use of Up to 6.0000 mgd; Approval Date: February 11, 2019.

4. Repsol Oil & Gas USA, LLC; Pad ID: YORK (07 088) R, ABR-201402005.R1; Little Meadows Borough and Apolacon Township, Susquehanna County, Pa.; Consumptive Use of Up to 6.0000 mgd; Approval Date: February 11, 2019.

5. Range Resources—Appalachia, LLC; Pad ID: Cornwall 1H-5H, ABR-201402006.R1; Lewis Township, Lycoming County, Pa.; Consumptive Use of Up to 2.0000 mgd; Approval Date: February 11, 2019.

6. Repsol Oil & Gas USA, LLC; Pad ID: COREY (07 089) J, ABR-201402008.R1; Choconut Township, Susquehanna County, Pa.; Consumptive Use of Up to 6.0000 mgd; Approval Date: February 11, 2019.

7. Repsol Oil & Gas USA, LLC; Pad ID: CAPRIO (07 077) S, ABR-201402011.R1; Apolacon Township, Susquehanna County, Pa.; Consumptive Use of Up to 6.0000 mgd; Approval Date: February 14, 2019.

8. SWN Production Company, LLC; Pad ID: RU-65-LEONARD-PAD; ABR-201402010.R1; Jackson Township, Susquehanna County, Pa.; Consumptive Use of Up to 4.9990 mgd; Approval Date: February 15, 2019.

9. Cabot Oil & Gas Corporation; Pad ID: MakoskyT P1, ABR-201402012.R1; Brooklyn Township, Susquehanna County, Pa.; Consumptive Use of Up to 5.0000 mgd; Approval Date: February 25, 2019.

10. Cabot Oil & Gas Corporation; Pad ID: MillardK P1, ABR-201402013.R1; Jessup Township, Susquehanna County, Pa.; Consumptive Use of Up to 5.0000 mgd; Approval Date: February 25, 2019.

11. Chief Oil & Gas, LLC; Pad ID: HEMLOCK RIDGE ESTATES PAD, ABR-201902003; McNett Township, Lycoming County, Pa.; Consumptive Use of Up to 2.5000 mgd; Approval Date: February 25, 2019.

Authority: Pub. L. 91-575, 84 Stat. 1509 et seq., 18 CFR parts 806, 807, and 808.

Dated: March 27, 2019.
Jason E. Oyler,
General Counsel and Secretary to the Commission.

[FR Doc. 2019-06290 Filed 4-1-19; 8:45 am]

BILLING CODE 7040-01-P